FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than December 30, 2024.

A. Federal Reserve Bank of Chicago (Colette A. Fried, Assistant Vice President) 230 South LaSalle Street, Chicago, Illinois 60690-1414. Comments can also be sent electronically to Comments.applications@chi.frb.org:

1. Steven A. Brady, Edgewood, Iowa; Madonna J. Brady, Edgewood, Iowa; Benjamin A. Brady, Laurel, Maryland; Lucas S. Brady, Edgewood, Iowa; and Jonathan J. Brady, Shawnee, Kansas City; to form the Brady Family Control Group, a group acting in concert, to acquire voting shares of Community Financial Corp., and thereby indirectly acquire voting shares of Community Savings Bank, both of Edgewood, Iowa.

B. Federal Reserve Bank of Kansas City (Jeffrey Imgarten, Assistant Vice President) 1 Memorial Drive, Kansas City, Missouri 64198-0001. Comments can also be sent electronically to KCApplicationComments@kc.frb.org:

1. The Clay G. Whitham Trust No. 4, Elizabeth Whitham and Brian G. Wurst, as trustees, all of Lamar, Colorado, and Travis Whitham, Denver, Colorado, as trust director; the Stewart Whitham Trust No. 4, Leoti, Kansas, Jane Whitham, Leoti, Kansas, and Brian G. Wurst as trustees, and Clay Whitham, Lamar, Colorado, as trust director; and the Whitham 2024 Descendants Trust, Barth Whitham as trustee, all of Morrison, Colorado; to become members of the Whitham Family Control Group, a group acting in concert, to acquire voting shares of Whitcorp Financial Company, Leoti, Kansas, and thereby indirectly acquire voting shares of Western State Bank, Garden City, Kansas, and Frontier Bank, Lamar, Colorado. Brian G. Wurst, Clay Whitham, and Barth Whitham are members of the Witham Family Control Group and were each previously permitted by the Federal Reserve System to acquire control of voting shares of Whitcorp Financial Company.

Board of Governors of the Federal Reserve System.
Michele Taylor Fennell,
Associate Secretary of the Board.

[FR Doc. 2024-29433 Filed 12-12-24; 8:45 am]

BILLING CODE P